DEPARTMENT OF TRANSPORTATION

Federal Motor Carrier Safety Administration

Unified Carrier Registration Plan Board of Directors; Sunshine Act Meetings

AGENCY: Federal Motor Carrier Safety Administration (FMCSA), DOT.

ACTION: Notice of Unified Carrier Registration Plan Board of Directors meeting.

TIME AND DATE: The meeting will be held on December 14, 2017, from 9:00 a.m. to 4:00 p.m., Eastern Standard Time.

PLACE: The meeting will be open to the public at the; Towers at Wildwood, 1st Floor Conference Center—East Tower, 3200 Windy Hill Road, Atlanta, GA 30339, and via conference call. Those not attending the meeting in person may call 1-877-422-1931, passcode 2855443940, to listen and participate in the meeting.

STATUS: Open to the public.

MATTERS TO BE CONSIDERED: The Unified Carrier Registration Plan Board of Directors (the Board) will continue its work in developing and implementing the Unified Carrier Registration Plan and Agreement and to that end, may consider matters properly before the Board.

FOR FURTHER INFORMATION CONTACT: Mr. Avelino Gutierrez, Chair, Unified Carrier Registration Board of Directors at (505) 827-4565.

Issued on: December 6, 2017.
Larry W. Minor,
Associate Administrator, Office of Policy, Federal Motor Carrier Safety Administration.

[FR Doc. 2017-26722 Filed 12-7-17; 4:15 pm]

BILLING CODE 4910-EX-P